INTERNATIONAL TRADE COMMISSION

[Investigation No. 332-543]

Trade, Investment, and Industrial Policies in India: Effects on the U.S. Economy; Institution of Investigation and Scheduling of Hearing

AGENCY: United States International Trade Commission.

ACTION: Institution of investigation and scheduling of public hearing.

SUMMARY: Following receipt of a request on August 2, 2013 from the Senate Committee on Finance and the House Committee on Ways and Means (Committees) under section 332(g) of the Tariff Act of 1930 (19 U.S.C. 1332(g)), the U.S. International Trade Commission (Commission) instituted investigation No. 332-543, Trade, Investment, and Industrial Policies in India: Effects on the U.S. Economy.

DATES: January 21, 2014: Deadline for filing requests to appear at the public hearing.

January 30, 2014: Deadline for filing pre-hearing briefs and statements.

February 13, 2014: Public hearing.

February 25, 2014: Deadline for filing post-hearing briefs and statements.

April 11, 2014: Deadline for filing all other written statements.

November 30, 2014: Transmittal of Commission report to the Committees.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at https://edis.usitc.gov/edis3-internal/app.

FOR FURTHER INFORMATION CONTACT: Project Leader Bill Powers (202-708-5405 or william.powers@usitc.gov) or Deputy Project Leader Renee Berry (202-205-3498 or renee.berry@usitc.gov) for information specific to this investigation. For information on the legal aspects of these investigations, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In their request letter the Committees asked that the Commission conduct an investigation regarding Indian industrial policies that discriminate against U.S. imports and investment for the sake of supporting Indian domestic industries, and the effect that those barriers have on the U.S. economy and U.S. jobs. As requested by the Committees, the Commission will provide in its report:

• An overview of trends and policies in India affecting trade and foreign direct investment in that country's agriculture, manufacturing and service sectors, as well as the overall business environment. The overview will take a historic view, but focus on the period since 2003. It will include examples of changes in tariff and nontariff measures, including measures related to the protection of intellectual property rights, and other actions taken by India's government to facilitate or restrict the inflow of trade and FDI.

• A description of (1) any significant restrictive trade and FDI policies currently maintained or recently adopted by India as identified by Commission research; (2) the sectors in the U.S. economy most affected by these restrictive policies; and (3) the general competitiveness of sectors in India's economy that are subject to the identified restrictions.

• Several case studies that examine the effects of particular restrictive measures on U.S. firms that export to or invest in India, or that have not done so because of the measures. To the extent feasible, the case studies will address the impact of the restrictive measures on both large and small and medium-sized enterprises.

• To the extent feasible, a quantitative analysis of the economic effects of India's identified restrictive measures on the U.S. economy as a whole, on U.S. trade and investment, and on selected sectors of the U.S. economy.

• Based on the survey and analysis of results, and to the extent feasible, a summary of U.S. firms' perception of (1) recent changes in India's trade and investment policies in selected sectors and (2) the effects of these changes on U.S. firms' strategies towards India (e.g., reducing investment or altering product mix), and analysis of whether the effects of these policy changes differ by firms' characteristics, such as size, IP-intensiveness, or export status.

Public Hearing: A public hearing in connection with this investigation will be held at the U.S. International Trade Commission Building, 500 E Street SW., Washington, DC, beginning at 9:30 a.m. on February 13, 2014. Requests to appear at the public hearing should be filed with the Secretary, no later than 5:15 p.m., January 21, 2014 in accordance with the requirements in the “Submissions” section below. All pre-hearing briefs and statements should be filed not later than 5:15 p.m., January 30, 2014; and all post-hearing briefs and statements should be filed not later than 5:15 p.m., February 25, 2014. In the event that, as of the close of business on January 21, 2014, no witnesses are scheduled to appear at the hearing, the hearing will be canceled. Any person interested in attending the hearing as an observer or nonparticipant should contact the Office of the Secretary at 202-205-2000 after January 21, 2014, for information concerning whether the hearing will be held.

Written Submissions: In lieu of or in addition to participating in the hearing, interested parties are invited to file written submissions concerning this investigation. All written submissions should be addressed to the Secretary, and should be received not later than 5:15 p.m., April 11, 2014. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information (CBI) must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available for inspection by interested parties.

In the request letter, the Committees stated that they intend to make the Commission's report available to the public in its entirety, and asked that the Commission not include any confidential business information or national security classified information in the report that it sends to the Committees. Any confidential business information received by the Commission in this investigation and used in preparing this report will not be published in a manner that would reveal the operations of the firm supplying the information.

By order of the Commission.
Issued: August 29, 2013.
Lisa R. Barton,
Acting Secretary to the Commission.

[FR Doc. 2013-21499 Filed 9-4-13; 8:45 am]

BILLING CODE 7020-02-P